DEPARTMENT OF HOMELAND SECURITY

Federal Emergency Management Agency

[Docket ID: FEMA-2010—0029]

Agency Information Collection Activities: Proposed Collection; Comment Request, 1660-0032; U.S. Fire Administration's National Fire Academy Evaluation Collection

AGENCY: Federal Emergency Management Agency, DHS.

ACTION: Notice; 60-day notice and request for comments; revision of a currently approved information collection; OMB No. 1660-0032; FEMA Form 064-0-4, NFA Distance Learning Course Evaluation Form; FEMA Form 064-0-5, NFA End of Course Evaluation Form; FEMA Form 064-0-10, USFA Conference/Symposium Form.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning National Fire Academy (NFA) course evaluations and conference/symposia supporting programmatic initiatives.

DATES: Comments must be submitted on or before July 26, 2010.

ADDRESSES: To avoid duplicate submissions to the docket, please use only one of the following means to submit comments:

(1) Online. Submit comments at http://www.regulations.gov under Docket ID FEMA-2010-0029. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include Docket ID FEMA-2010-0029 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Contact Terry Gladhill, Program Analyst, United States Fire Administration, National Fire Academy, (301) 447-1239 for additional information. You may contact the Office of Records Management for copies of the proposed collection of information at facsimile number (202) 646-3347 or e-mail address: FEMA-Information-Collections-Management@dhs.gov.

SUPPLEMENTARY INFORMATION: The National Fire Academy (NFA) of the United States Fire Administration (USFA) is mandated under the Fire Prevention and Control Act of 1974 (Pub. L. 93-498) to provide training and education to the Nation's fire service and emergency service personnel. The state-of-the-art programs offered by the NFA serve as models of excellence and state and local fire service agencies rely heavily on the curriculum to train their personnel. To maintain the quality of these training programs, it is critical that courses be evaluated to determine student satisfaction and reaction to the course materials, instructional delivery, and the training environment.

Collection of Information

Title: U.S. Fire Administration's National Fire Academy Evaluation Collection.

Type of Information Collection: Revision of a currently approved information collection.

OMB Number: 1660-0032.

Form Titles and Numbers: FEMA Form 064-0-4, NFA Distance Learning Course Evaluation Form; FEMA Form 064-0-5, NFA End of Course Evaluation Form; FEMA Form 064-0-10, USFA Conference/Symposium Form.

Abstract: The NFA End of Course Evaluation Form is used to evaluate all traditional classroom based course deliveries and conference/symposia supporting programmatic initiatives. Data provided by students is used to determine the need for course improvements and the degree of student satisfaction with the training experience. Participant stakeholder data provides necessary information in consideration of program revision and development initiatives and evaluates if the information met their needs.

Affected Public: State, local or tribal government.

Estimated Total Annual Burden Hours: 7,590 burden hours.

Annual Hour Burden
Estimated annualized burden hours and costs: Type of respondent | Estimated annualized burden hours and costs: Form name/form number | Estimated annualized burden hours and costs: Number of respondents | Estimated annualized burden hours and costs: Number of responses per respondent | Estimated annualized burden hours and costs: Average burden per response (in hours) | Estimated annualized burden hours and costs: Total annual burden (in hours) | Estimated annualized burden hours and costs: Average hourly wage rate | Estimated annualized burden hours and costs: Total annual respondent cost
State, local or tribal government | NFA Distance Learning Course Evaluation Form/FEMA Form 064-0-4 | 40,000 | 1 | 6 minutes (.10 hours) | 4,000 | $22.28 | $89,120
State, local or tribal government | NFA End of Course Evaluation Form/FEMA Form 064-0-5 (Formerly FEMA Form 95-20) | 14,000 | 1 | 15 minutes (.25 hours) | 3,500 | 22.28 | 77,980
State, local or tribal government | USFA Conference/Symposium Form/FEMA Form 064-0-10 | 600 | 1 | 9 minutes (.15 hours) | 90 | 22.28 | 2,005
Total |  | 54,600 |  |  | 7,590 |  | 169,105

Estimated Cost: There are no record keeping, capital, start-up or maintenance costs associated with this information collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 20, 2010.
Tammi Hines,
Acting Director, Records Management Division, Mission Support Bureau, Federal Emergency Management Agency, Department of Homeland Security.

[FR Doc. 2010-12734 Filed 5-26-10; 8:45 am]

BILLING CODE 9111-45-P